DEPARTMENT OF DEFENSE

Department of the Navy

[Docket ID: USN-2013-0031]

Proposed Collection; Comment Request

AGENCY: Department of the Navy, DoD.

ACTION: Notice.

In compliance with Section 3506(c)(2)(A) of the Paperwork Reduction Act of 1995, the Department of the Navy announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 17, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Marine Corps Marathon Office, Attn: Angela Huff, P.O. Box 188, Quantico, VA 22134, or call the Marine Corps Marathon Office at (703) 432-1159.

Title; Associated Form; and OMB Number: Marine Corps Marathon Race Applications; OMB Control Number 0703-0053.

Needs and Uses: The information collection requirement is necessary to obtain and record the information of runners to conduct the races, for timing purposes and for statistical use.

Affected Public: Individuals or households.

Annual Burden Hours: 5,283.

Marine Corps Marathon—5 min burden.

Burden hours: 30,000 runners × 5 min = 144,240 min = 2,404 hours.

Healthy Kids Fun Run—5 min burden.

Burden hours: 3,600 runners × 5 min = 18,000 min = 300 hours.

Marine Corps Marathon 10K—5 min burden.

Burden hours: 10,000 runners × 5 min = 50,000 min = 833.33 hours.

Marine Corps Historic Half—5 min burden.

Burden hours: 8,000 runners × 5 min = 40,000 min = 666.67 hours.

Semper Fred 5k—5 min burden.

Burden hours: 1,500 runners × 5 min = 7,500 min = 125 hours.

Marine Corps Historic Half 10k—5 min burden.

Burden hours: 1,000 runners × 5 min = 5,000 min = 50 hours.

Marine Corps Marathon Race Series to include MCM 1775, Run Amuck, Crossroads 4 Miler and Turkey Trot—5 min burden.

Burden hours: 9,000 runners × 5 min = 45,000 min = 750 hours.

Marine Corps Marathon Triathlon—5 min burden.

Burden hours: 300 runners × 5 min = 1,500 min = 25 hours.

Number of Respondents: 63,400.

Responses per Respondent: 1.

Average Burden per Response: 5 minutes.

Frequency: Annually.

SUPPLEMENTARY INFORMATION:

Summary of Information Collection

Respondents are runners who are signing up for the Marine Corps Marathon races held by the Marine Corps Marathon office, Marine Corps Base Quantico. The seven races defined under OMB number 0703-0053 are the Marine Corps Marathon, the Marine Corps Marathon 10K, and the Marine Corps Marathon Healthy Kids Fun Run, Marine Corps Historic Half, Semper Fred 5K, Marine Corps Marathon Race Series to include Marine Corps 17.75K (former Run 2 Register), Run Amuck, Run Stock and Crossroads 4 miler (former 12K/5K). The additional races to be added to the OMB number are the Marine Corps Historic Half 10K, the Crossroads 4 miler, and Quantico Triathlon. The Marine Corps Marathon office records all runners to conduct the races in preparation and execution of the races and to record statistical information for sponsors, media and for economic impact studies. Collecting this data of the runners is essential for putting on the races.

Dated: July 11, 2013.
Aaron Siegel,
Alternate OSD Federal Register Liaison Officer, Department of Defense.

[FR Doc. 2013-17400 Filed 7-18-13; 8:45 am]

BILLING CODE 5001-06-P